FEDERAL COMMUNICATIONS COMMISSION

47 CFR Part 73

[DA 01-2146; MM Docket No. 01-236, RM-10242 ; MM Docket No. 01-01-137, RM-10243; MM Docket No. 01-238, RM-10244; MM Docket No. 01-239, RM-10245; MM Docket 01-240, RM-10246; MM Docket No. 01-241; RM-10247; MM Docket No. 01-242; RM-10248]

Radio Broadcasting Services; Arnett, OK; Sayre, OK, Hebbronville, TX; Bruni, TX; Rison, AK; Oscoda, MI; and Highland, MI

AGENCY: Federal Communications Commission.

ACTION: Proposed rule.

SUMMARY: This document proposes seven new FM allotments to Arnett, Oklahoma; Sayre, Oklahoma; Hebbronville, Texas; Bruni, Texas; Rison, Arkansas; Oscoda, Michigan; and Highland, Michigan. The proposed allotments are in response to petitions filed. See SUPPLEMENTARY INFORMATION, for more detailed information on the proposed allotments.

DATES: Comments must be filed on or before November 5, 2001, and reply comments on or before November 20, 2001.

ADDRESSES: Federal Communications Commission, Washington, DC 20554. In addition to filing comments with the FCC, interested parties should serve the petitioner, his counsel, or consultant, as follows: Katherine Pyeatt, 6655 Aintree Circle, Dallas Texas, (Petitioner for Arnett, Oklahoma); Jeraldine Anderson, 1702 Cypress Drive, Irving, Texas 75061 (Petitioner for Sayre, Oklahoma; Hebbronville and Bruni, Texas); Charles Crawford, 4553 Bordeaux Ave., Dallas, Texas 75205 (Petitioner for Rison, Arkansas; Oscoda and Highland, Michigan).

SUPPLEMENTARY INFORMATION: This is a synopsis of the Commission's Notice of Proposed Rule Making, MM Docket No. 01-236; MM Docket No. 01-237; and MM Docket No. 01-238, MM Docket No. 01-239; MM Docket No. 01-240; MM Docket No. 01-241; and MM Docket No. 01-242, adopted September 5, 2001, and released September 14, 2001. The full text of this Commission decision is available for inspection and copying during normal business hours in the FCC Reference Information Center (Room CY-A257), 445 12th Street, SW., Washington, DC. The complete text of this decision may also be purchased from the Commission's copy contractor, Qualex International, Portals II, 445 12th Street, SW, Room CY-B402, Washington DC 20554.

The Commission requests comments on a petition filed by Katherine Pyeatt proposing the allotment of Channel 285C2 at Arnett, Oklahoma, as the community's first local aural transmission service. Channel 285C2 can be allotted to Arnett in compliance with the Commission's minimum distance separation requirements with a site restriction of 24 kilometers (14.9 miles) southwest. The coordinates for Channel 285C2 are 35-00-10 North Latitude and 99-59-06 West Longitude.

The Commission requests comments on a petition filed by Jeraldine Anderson proposing the allotment of Channel 269C2 at Sayre, Oklahoma, as the community's first local aural transmission service. Channel 269C2 can be allotted to Sayre in compliance with the Commission's minimum distance separation requirements at city reference coordinates. The coordinates for Channel 269C2 at Sayre are 35-17-28 North Latitude and 99-38-23 West Longitude.

The Commission requests comments on a petition filed by Jeraldine Anderson proposing the allotment of Channel 254A at Hebbronville, Texas, as the community's second local FM transmission service. Channel 254A can be allotted to Hebbronville in compliance with the Commission's minimum distance separation requirements with a site restriction of 10.6 kilomters (6.6 miles) west to avoid a short-spacing to the licensed site of Station KGBT-FM, Channel 253C, McAllen, Texas. The coordinates for Channel 254A at Hebbronville are 27-20-15 North Latitude and 98-46-45 West Longitude. Since Hebbronville is located within 320 kilometers (199 miles) of the U.S.-Mexican border, concurrence of the Mexican government has been requested.

The Commission requests comments on a petition filed by Jeraldine Anderson proposing the allotment of Channel 293A at Bruni, Texas, as the community's first local aural transmission service. Channel 293A can be allotted to 6.8 kilometers (4.2 miles) north in compliance with the Commission's minimum distance separation requirements to avoid a short-spacing to the licensed site of Station KPSO-FM, Channel 292A, Falfurria, Texas, the construction permit site of Station KTKY(FM), Channel 293C2, Taft, Texas, and the allotment site for Channel 294A at El Lobo, Texas. The coordinates for Channel 293A at Bruni are 27-29-12 North Latitude and 98-51-00 West Longitude. Since Bruni is located within 320 kilometers (199 miles) of the U.S.-Mexican border, concurrence of the Mexican government has been requested.

The Commission requests comments on a petition filed by Charles Crawford proposing the allotment of Channel 255A at Rison, Arkansas, as the community's first local aural transmission service. Channel 255A can be allotted to Rison in compliance with the Commission's minimum distance separation requirements with a site restriction of 2.2 kilomters (1.4 miles) southwest to avoid a short-spacing to the licensed site of Station KZYP)(FM), Channel 257A, Pine Bluff, Arkansas. The coordinates for Channel 255A at Rison are 33-56-30 North Latitude and 92-12-13 West Longitude.

The Commission requests comments on a petition filed by Charles Crawford proposing the allotment of Channel 243A at Oscoda, Michigan as the community's third local FM transmission service. Channel 243A can be allotted to Oscoda in compliance with the Commission's minimum distance separation requirements without the imposition of a site restriction. The coordinates for Channel 243A at Oscoda are 44-25-48 North Latitude and 83-19-36 West Longitude. Since Oscoda is located within 320 kilometers (199 miles) of the U.S.-Canadian, concurrence of the Canadian government has been requested.

The Commission requests comments on a petition filed by Charles Crawford proposing the allotment of Channel 236A at Highland, Michigan, as the community's first local aural transmission service. Channel 236A can be allotted to Highland in compliance with the Commission's minimum distance separation requirements without the imposition of a site restriction. The coordinates for Channel 236A at Highland are 44-15-47 North Latitude and 85-20-27 West Longitude. Since Highland is located within 320 kilometers (199 miles) of the U.S.-Canadian, concurrence of the Canadian government has been requested.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arkansas, is amended by adding Rison, Channel 255A.

3. Section 73.202(b), the Table of FM Allotments under Michigan, is amended by adding Highland, Channel 236A; and by adding Channel 243A at Oscoda.

4. Section 73.202(b), the Table of FM Allotments under Oklahoma, is amended by adding Arnett, Channel 285C2; and by adding Sayre, Channel 269C2.

5. Section 73.202(b), the Table of FM Allotments under Texas, is amended by adding Bruni, Channel 293A; and by adding Channel 254A at Hebbronville.

Federal Communications Commission.
John A. Karousos,
Chief, Allocations Branch, Policy and Rules Division, Mass Media Bureau.

[FR Doc. 01-24136 Filed 9-27-01; 8:45 am]

BILLING CODE 6712-01-P